DEPARTMENT OF AGRICULTURE

Farm Service Agency

Export Bid Entry System and Freight Bid Entry System Training

AGENCY: Farm Service Agency, USDA.

ACTION: Notice of public meeting.

SUMMARY: This notice is to advise Commodity Vendors, Steamship Lines, and Freight Forwarders that the Farm Service Agency (FSA) will hold training sessions on the agency's newly redesigned Export Bid Entry System (EBES) and the Freight Bid Entry System (FBES), and invite the participation of interested parties.

DATES:

1. EBES training will be on November 6, 7, or 8, 2006, from 9 a.m. to 3 p.m., Central Daylight Time (CDT).

2. FBES training will be on either November 1 or 2, 2006, for steamship lines, and on November 3, 2006, for freight forwarders, from 10 a.m. to 4 p.m. Eastern Standard Time (EST).

3. Deadline: The deadline to register for either EBES or FBES Training is 4:30 p.m., EST, on Friday October 27, 2006.

ADDRESSES:

1. EBES training will be held at the Kansas City Commodity Office (KCCO) located at 6501 Beacon Drive, Kansas City, Missouri, 64141.

2. FBES training will be held in the Nairobi Room of the Ronald Reagan Building located at 1300 Pennsylvania Avenue, NW., in Washington, DC 20004-3002.

FOR FURTHER INFORMATION CONTACT: Questions regarding either of these training sessions should be directed to Ken Martin, USDA, Farm Service Agency, Kansas City Commodity Office, (816) 926-6552.

SUPPLEMENTARY INFORMATION:

EBES Training

EBES training is open to all commodity vendors involved in food aid related exports. A new version of EBES, the commodity bid entry system, will be coming online soon. The objective of this training is to provide users of the system with a basic understanding of the steps involved in entering bids within this version, and will consist of one day of hands-on experience.

FBES Training

FBES training is open to all steamship lines and freight forwarders involved in food aid related exports. FBES is the new electronic process steamship lines and freight forwarders will use to enter and manage freight bids. The objective of this training is to provide users of the system with a basic understanding of the steps involved in entering bids, reviewing reports and will consist of one day of hands-on training. The training is designed for the users that will actually be entering bids or reviewing reports.

Registration

Anyone interested in attending one of these training session may register free of charge for any of the listed dates as applicable. Every effort will be made to honor the requested date; however, the Friday, November 3 date is specifically focused on issues relevant to freight forwarders. Space is available on a first-come, first-serve basis. Interested parties may register or obtain additional information by calling the contact listed above. Other information, including information on registration, for the EBES training may be found at: http://www.fsa.usda.gov/Internet/FSA_File/ebes_training.pdf. Additional information, including registration, for FBES training can be found at http://www.fsa.usda.gov/Internet/FSA_File/fbes_training.pdf.

Signed in Washington, DC, on October 16, 2006.
Teresa C. Lasseter,
Administrator, Farm Service Agency.

[FR Doc. E6-17574 Filed 10-19-06; 8:45 am]

BILLING CODE 3410-05-P